DEPARTMENT OF THE INTERIOR

National Park Service

Notice of Proposed Information Collection

AGENCY: National Park Service, DOI.

ACTION: Notice and request for comments.

SUMMARY: In compliance with the Paperwork Reduction Act of 1995, the National Park Service (NPS) is announcing its intention to renew authority for the collection of information under 36 CFR part 51, section 51.47 regarding the appeal of a preferred offeror determination, sections 51.54 and 51.55 regarding NPS approval of the construction of capital improvements by concessioners, and section 51.98 concerning recordkeeping requirements with which concessioners must comply. The collection described below has been forwarded to the Office of Management and Budget (OMB) for review and comment. The information request describes the nature of the information collection and the expected burden and cost.

DATES: OMB has up to 60 days to approve or disapprove the information collection but may respond after 30 days. Therefore, public comments should be submitted to OMB by November 9, 2000, in order to be assured of consideration.

For Further Information Contact: To request a copy of the information collection request, explanatory information and related materials, contact Wendelin M. Mann at (202) 565-1219, or electronically to wendy_mann@nps.gov.

SUPPLEMENTARY INFORMATION: The Office of Management and Budget (OMB) regulations at 5 CFR 1320, which implement provisions of the Paperwork Reduction Act of 1995 (Pub. L. 104-13) require that interested members of the public and affected agencies have an opportunity to comment on information collection and recordkeeping activities (see 5 CFR 13200.8(d)). NPS has submitted a request to OMB to renew approval of the collection of information for 36 CFR part 51, section 51.47 regarding the appeal of a preferred offeror determination, sections 51.54 and 51.55 regarding NPS approval of the construction of capital improvements by concessioners, and section 51.98 concerning recordkeeping requirements with which concessioners must comply. NPS is requesting a 3-year term of approval for this information collection activity.

An agency may not conduct or sponsor, and a person is not required to respond to, a collection of information unless it displays a currently valid OMB control number. The OMB control number for this collection of information is 1024-0231, and this collection is referenced in 36 CFR section 51.104(c).

As required under 5 CFR 1320.8(d), a Federal Register notice soliciting comments on these collections of information was published on July 12, 2000 (65 FR 43036). No comments were received. This notice provides the public with an additional 30 days in which to comment on the following information collection activity:

Title: Concession Contracts—36 CFR 51.

OMB Control Number: 1024-0231.

Summary: The regulations at 36 CFR Part 51 primarily implement Title IV of the National Parks Omnibus Management Act of 1998 (Pub. L. 105-391 or the Act), which provides new legislative authority, policies and requirements for the solicitation, award and administration of NPS concession contracts. Section 51.47 of the regulations provides any person may submit a written appeal of a decision by the Director that a concessioner is or is not a preferred offeror. Sections 51.55 and 51.56 require concessioners who construct capital improvements to submit information including, without limitation, plans, specifications, cost estimates, and construction reports for the Director's review and consideration in connection with the granting of leasehold surrender interest. Section 51.98 requires concessioners to keep records during the term of the concession contract and for five calendar years after its termination or expiration.

Bureau Form Number: None.

Frequency of Collection: On occasion.

Description of Respondents: Persons or entities seeking a National Park Service concession contract.

Total Annual Responses: 758.

Total Annual Burden Hours: 3,276.

Total Non-hour Cost Burden: $0.

Send comments on the need for the collection of information for the performance of the functions of the agency; the accuracy of the agency's burden estimates; ways to enhance the quality, utility and clarity of the information collection; and ways to minimize the information collection burden on respondents, such as use of automated means of collection of the information, to the following address. Please refer to OMB control number 1024-0231 in all correspondence.

Our practice is to make comments, including names and home addresses of respondents, available for public review during regular business hours. Individual respondents may request that we withhold their home address from the record, which we will honor to the extent allowable by law. There also may be circumstances in which we would withhold from the record a respondent's identify, as allowable by law. If you wish us to withhold your name and/or address, you must state this prominently at the beginning of your comment. However, we will not consider anonymous comments. We will make all submissions from organizations or businesses, and from individuals identifying themselves as representatives or officials of organizations or businesses, available for public inspection in their entirety.

Addresses: Office of Information and Regulatory Affairs, Office of Management and Budget, Attention: Department of the Interior Desk Officer, 725 17th Street, NW., Washington, DC 20503. Also, please send a copy of your comments to Wendelin M. Mann, Concession Program, National Park Service, 1849 C Street, NW., Room 7313, Washington, DC 20240, or electronically to wendy_mann@nps.gov.

Dated: October 4, 2000.
Leonard E. Stowe,
Information Collection Office, WASO Administrative Program Center.

[FR Doc. 00-25962 Filed 10-6-00; 8:45 am]

BILLING CODE 4310-70-P